DEPARTMENT OF ENERGY

Federal Energy Regulatory Commission

[Project No. 2628-066]

Notice of Availability of the Final Environmental Impact Statement for the Alabama Power Company R.L. Harris Hydroelectric Project

In accordance with the National Environmental Policy Act of 1969 ¹ and the Federal Energy Regulatory Commission's (Commission) regulations, 18 CFR part 380, the Office of Energy Projects has reviewed the application for relicense for the R.L. Harris Hydroelectric Project (Harris Project) (FERC No. 2628) and has prepared a final environmental impact statement (EIS) for the project. The project is located on the Tallapoosa River near the City of Lineville in Randolph, Clay, and Cleburne Counties, Alabama. The Harris Project also includes land within the James D. Martin-Skyline Wildlife Management Area located approximately 110 miles north of Harris Lake in Jackson County, Alabama.

¹ National Environmental Policy Act of 1969, amended (Pub. L. 91-190. 42 U.S.C. 4321-4347, as amended by Pub. L. 94-52, July 3, 1975, Pub. L. 94-83, August 9, 1975, Pub. L. 97-258, 4(b), September 13, 1982, Pub. L. 118-5, June 3, 2023).

The final EIS contains staff's analysis of the applicant's proposal and the alternatives for relicensing the Harris Project. The final EIS documents the views of governmental agencies, non-governmental organizations, affected Native-American Tribes, the public, the license applicant, and Commission staff.

The Commission provides all interested persons with an opportunity to view and/or print the final EIS via the internet through the Commission's Home Page (http://www.ferc.gov/), using the “eLibrary” link. Enter the docket number, excluding the last three digits in the docket number field, to access the document. For assistance, contact FERC Online Support at FERCOnlineSupport@ferc.gov, or toll-free at (866) 208-3676, or for TTY, (202) 502-8659.

You may also register online at https://ferconline.ferc.gov/FERCOnline.aspx to be notified via email of new filings and issuances related to this or other pending projects. For assistance, contact FERC Online Support.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595, or OPP@ferc.gov.

For further information, contact Sarah Salazar at (202) 502-6863, or sarah.salazar@ferc.gov.

Dated: March 31, 2025.
Debbie-Anne A. Reese,
Secretary.

[FR Doc. 2025-05859 Filed 4-3-25; 8:45 am]

BILLING CODE 6717-01-P